DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly accessed.

Currently, the Employment and Training Administration (ETA) is soliciting comments concerning the proposed extension collection of the Agricultural and Food Processing Clearance Order, Form ETA-790; Agricultural and Food Processing Clearance Memorandum, Form ETA-795; Migrant Worker Itinerary, Form ETA-785; and Job Service Manifest Record, Form ETA-785A.

A copy of the proposed information collection request can be obtained by contacting the employee or office listed below in the ADDRESSES section of this notice.

DATES: Written comments must be submitted to the office listed in the addressee's section below on or before January 16, 2001.

ADDRESSES: Roberto Carmona, National Monitor Advocate, Office of Career Transition Assistance, U.S. Employment Service/ALMIS, Employment and Training Administration, 200 Constitution Avenue, NW., Rm. S-4231, Washington, DC 20210; (202) 219-5257 (not a toll-free number); Internet address: rcarmona@doleta.gov; and/or Fax: (202) 208-5844.

SUPPLEMENTARY INFORMATION:

I. Background

The Migrant and Seasonal Farm Worker regulations at 20 CFR 653.500 established procedures for agricultural clearance to all local offices to use the interstate clearance forms as prescribed by ETA. Local and State employment offices use the Agricultural and Food Processing Clearance Order to extend job orders beyond their jurisdictions. Applicants holding local offices use the Agricultural Clearance Memorandum to give notice of action on a clearance order, request additional information, report results, and to accept or reject the extended job order. State agencies use the Migrant Worker Itinerary to transmit employment and supportive service information to labor-demand areas, and to assist migrant workers in obtaining employment. The Job Service Manifest Record shows names, addresses, and characteristics of all people named on the Migrant Worker Itinerary.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval under the Paperwork Reduction Act of 1995 (44 U.S.C. 3506(C)(2)(a) of an extension to an existing collection of information previously approved and assigned OMB Control No. 1205-0134. There is no change in burden.

Type of Review: Extension.

Agency: Employment and Training Administration.

Titles: Agricultural and Food Processing Clearance Order, Agricultural Clearance Memorandum, Migrant worker Itinerary, and Job Service Manifest Record.

OMB Number: 1205-0134.

Frequency: On occasion.

Affected Public: Individuals and households, employers, and State governments.

Number of Respondents: 52.

Estimated Time Per Respondent:

Form | Volume per year | Hours per response | Hours per year
ETA-790 | 2,000 | 1.0 | 2,000
ETA-795 | 3,000 | .5 | 1,500
ETA-785 | 3,500 | .5 | 1,750
ETA-785A | 2,500 | .5 | 1,250

Estimated Burden Hours: 6,500.

Total Estimated Cost: None.

Comments submitted in response to this request will be summarized and/or included in the request for Office of Management and Budget approval of the information collection request; they will also become a matter of public record.

Dated: October 17, 2000.
Grace A. Kilbane,
Administrator, Office of Workforce Security.

[FR Doc. 00-29037 Filed 11-13-00; 8:45 am]

BILLING CODE 4510-30-M